INTERNATIONAL TRADE COMMISSION

[Investigation No. 332-451]

Advice Concerning Possible Modifications to the U.S. Generalized System of Preferences, 2002 Review

AGENCY: International Trade Commission.

ACTION: Institution of investigation and scheduling of hearing.

SUMMARY: Following receipt on February 20, 2003, of a request from the United States Trade Representative (USTR) under section 332(g) of the Tariff Act of 1930 (19 U.S.C. 1332(g)), the Commission instituted investigation No. 332-451, Advice Concerning Possible Modifications to the U.S. Generalized System of Preferences, 2002 Review.

Background: As requested by the USTR, in accordance with sections 503(a)(1)(A), 503(e), and 131(a) of the Trade Act of 1974 (1974 Act), and under section 332(g) of the Tariff Act of 1930, the Commission will provide advice as to the probable economic effect on U.S. industries producing like or directly competitive articles and on consumers of the elimination of U.S. import duties for all beneficiary countries under the GSP for the following HTS subheadings: 0406.20.51, 0710.22.37, 0710.22.40, 0710.30.00, 0710.80.97 (pt.), 0710.80.9730, 0710.90.91, 0804.20.80, 1508.10.00, 1508.90.00, 1604.13.20, 1604.13.30, 2001.90.20, 2008.19.20, 2009.31.6020, 2009.39.6020, 2903.69.70 (pts.), 2917.12.10, 2921.43.15, 2921.43.80 (pt.), 2922.42.10, 7202.93.00 (pt.), 8108.20.0010, 8528.12.3224, 8528.12.3235, 8528.12.3250, and 8528.21.70. In providing its advice on these articles, the USTR asked that the Commission assume that the benefits of the GSP would not apply to imports that would be excluded from receiving such benefits by virtue of the competitive need limits specified in section 503(c)(2)(A) of the 1974 Act.

As requested by the USTR, in accordance with section 503(a)(1)(B), 503(e) and 131(a) of the Trade Act of 1974 (1974 Act), and under authority delegated by the President, delegated to the USTR by sections 4(c) and 8(c) of Executive Order 11846 of March 31, 1975, the Commission will provide advice as to the probable economic effect on U.S. industries producing like or directly competitive articles and on consumers of the elimination of U.S. import duties for countries designated as least-developed beneficiary developing countries in general note 4(b)(i) of the HTS for the following HTS subheadings: 8211.91.20, 8215.99.01, 8215.99.10, and 8215.99.30. In providing its advice on these articles, the USTR asked that the Commission assume that the benefits of the GSP would apply to imports that would be normally excluded from receiving such benefits by virtue of the competitive need limits specified in section 503(c)(2)(A) of the 1974 Act (an exemption from the application of the competitive need limits for the least-developed beneficiary developing countries is provided for in section 503(c)(2)(D) of the 1974 Act).

As requested under section 332(g) of the Tariff Act of 1930, the Commission will provide advice as to the probable economic effect on U.S. industries producing like or directly competitive articles and on consumers of the removal of Russia from eligibility for duty-free treatment under the GSP for HTS subheading 8108.90.60.

As requested under section 332(g) of the Tariff Act of 1930 and in accordance with section 503(d)(1)(A) of the 1974 Act, the Commission will provide advice on whether any industry in the United States is likely to be adversely affected by a waiver of the competitive need limits specified in section 503(c)(2)(A) of the 1974 Act for Argentina for 1508.10.00, 2009.31.6020, and 2009.39.6020; for Brazil for 2909.19.14, 7202.93.00, 8413.30.10, and 8708.99.67; for India for 7418.19.10, 7418.19.50, 9405.50.20, 9405.50.30, and 9405.50.40; for Kazakhstan for 7202.50.00 and 8108.20.0010; for Morocco for HTS subheadings 1604.13.20, 1604.13.30, and 2001.90.20; for Thailand for 8414.51.00 (pt.), 8528.12.28, and 8544.30.00; and for Turkey for 0813.10.00, and 7113.19.29.

With respect to the competitive need limit in section 503(c)(2)(A)(i)(I) of the 1974 Act, the Commission, as requested, will use the dollar value limit of $105,000,000.

As requested by the USTR, the Commission will seek to provide its advice not later than May 21, 2003.

EFFECTIVE DATE: February 27, 2003.

FOR FURTHER INFORMATION CONTACT: (1) Project Manager, Cynthia B. Foreso (202-205-3348 or foreso@usitc.gov).

(2) Deputy Project Manager, Eric Land (202-205-3349 or land@usitc.gov). The above persons are in the Commission's Office of Industries. For information on legal aspects of the investigation, contact William Gearhart of the Commission's Office of the General Counsel at 202-205-3091 or wgearhart@usitc.gov.

Public Hearing: A public hearing in connection with this investigation is scheduled to begin at 9:30 a.m. on April 8, 2003, at the U.S. International Trade Commission Building, 500 E Street, SW., Washington, DC. All persons have the right to appear by counsel or in person, to present information, and to be heard. Persons wishing to appear at the public hearing should file a letter with the Secretary, United States International Trade Commission, 500 E St., SW., Washington, DC 20436, not later than the close of business (5:15 p.m.) on March 17, 2003. In addition, persons appearing should file prehearing briefs (original and 14 copies) with the Secretary by the close of business on March 20, 2003. Posthearing briefs should be filed with the Secretary by the close of business on April 14, 2003. In the event that no requests to appear at the hearing are received by the close of business on March 19, 2003, the hearing will be canceled. Any person interested in attending the hearing as an observer or non-participant may call the Secretary to the Commission (202-205-1816) after March 19, 2003, to determine whether the hearing will be held.

Written Submissions: In lieu of or in addition to appearing at the public hearing, interested persons are invited to submit written statements concerning the investigation. Written statements should be received by the close of business on April 14, 2003. Commercial or financial information which a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available for inspection by interested persons. The Commission may include such confidential business information in the report it sends to USTR. All submissions should be addressed to the Secretary at the Commission's office in Washington, DC. The Commission's rules do not authorize filing of submissions with the Secretary by facsimile or electronic means, except to the extent permitted by section 201.8 of the Commission's rules, as amended, 67 FR 68036 (Nov. 8, 2002). The public record for this investigation may be viewed on the Commission's electronic docket (EDIS) at http://edis.usitc.gov. Hearing-impaired individuals are advised that information on this matter can be obtained by contacting our TDD terminal on (202) 205-1810.

By order of the Commission.
Issued: March 3, 2003.
Marilyn R. Abbott,
Secretary to the Commission.

[FR Doc. 03-5400 Filed 3-6-03; 8:45 am]

BILLING CODE 7020-02-P